DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: November 17, 2016.
Roy E. Wright,
Deputy Associate Administrator for Insurance and Mitigation, Department of Homeland Security, Federal Emergency Management Agency.

State and county | Location and case No. | Chief executive officer of community | Community map repository | Effective date of modification | Community No.
Idaho:
Canyon FEMA Docket No.: B-1609) | Unincorporated Areas of Canyon County (16-10-0071P) | Mr. Steven J. Rule, Commissioner, Canyon County, 1115 Albany Street, Caldwell, ID 83605 | Canyon County Courthouse, 1115 Albany Street, Caldwell, ID 83605 | May 4, 2016 | 160208
Latah (FEMA Docket No.: B-1609) | Unincorporated Areas of Latah County (15-10-0568P) | The Honorable Richard Walser, Chairman, Latah County Board of Commissioners, District One, P.O. Box 8068, Moscow, ID 83843 | Latah County Courthouse, 522 South Adams Street, Moscow, ID 83843 | Mar. 4, 2016 | 160086
Illinois:
Douglas (FEMA Docket No.: B-1609) | Unincorporated Areas of Douglas County (16-05-0794X) | The Honorable Don Monson, Chairman, Douglas County Board, P.O. Box 467, Tuscola, IL 61953 | Douglas County Courthouse, 401 South Center Street, Tuscola, IL 61953 | Jun. 2, 2016 | 170194
Douglas (FEMA Docket No.: B-1609)
Moultrie (FEMA Docket No.: B-1609) | Village of Arthur (16-05-0794X) | The Honorable Matt Bernius, Board President, Village of Arthur, 120 East Progress Street, Arthur, IL 61911 | Village Hall, 120 East Progress Street, Arthur, IL 61911 | Jun. 2, 2016 | 170520
La Salle (FEMA Docket No.: B-1609) | City of La Salle (16-05-0561P) | The Honorable Jeff Grove, Mayor, City of La Salle, 745 2nd Street, La Salle, IL 61301 | City Hall, 745 2nd Street, La Salle, IL 61301 | Jun. 13, 2016 | 170401
La Salle FEMA Docket No.: B-1609) | City of Peru (16-05-0561P) | The Honorable Scott J. Harl, Mayor, City of Peru, 1901 4th Street, Peru, IL 61354. | City Hall, 1901 4th Street, Peru, IL 61354 | Jun. 13, 2016 | 170406
Moultrie (FEMA Docket No.: B-1609) | Unincorporated Areas of Moultrie County (16-05-0794X) | The Honorable David McCabe, Chairman, Moultrie County Board, Moultrie County Courthouse, 10 South Main Street, Sullivan, IL 61951 | Moultrie County Courthouse, Planning and Zoning Department, 10 South Main Street, Suite 1, Sullivan, IL 61951 | Jun. 2, 2016 | 1 170998
Indiana:
Allen (FEMA Docket No.: B-1609) | City of Fort Wayne (16-05-1027P) | The Honorable Tom Henry, Mayor, City of Fort Wayne, 200 East Berry Street, Suite 420, Fort Wayne, IN 46802 | Department of Planning Services, 200 East Berry Street, Suite 150, Fort Wayne, IN 46802 | May 3, 2016 | 180003
Allen (FEMA Docket No.: B-1609) | Unincorporated Areas of Allen County (16-05-1027P) | Mr. F. Nelson Peters, Commissioner, Allen County, 200 East Berry Street, Suite 410, Fort Wayne, IN 46802. | Department of Planning Services, 200 East Berry Street, Suite 150, Fort Wayne, IN 46802 | May 3, 2016 | 180302
Lake (FEMA Docket No.: B-1609) | Town of Munster (15-05-6638P) | Mr. Dustin Anderson, Town Manager, Town of Munster, 1005 Ridge Road, Munster, IN 46321 | Town Hall, 1005 Ridge Road, Munster, IN 46321 | Mar. 18, 2016 | 180139
Newton (FEMA Docket No.: B-1609) | Town of Kentland (16-05-0904P) | Mr. Lowell Mitchell, Town Council President, Town of Kentland, 300 North 3rd Street, Kentland, IN 47951 | Kentland Town Hall, 300 North 3rd Street, Kentland, IN 47951 | May 5, 2016 | 180182
Michigan:
Lapeer (FEMA Docket No.: B-1609) | Township of Marathon (15-05-4470P) | Mr. Fred Moorhouse, Supervisor, Township of Marathon, 4575 Pine Street, Columbiaville, MI 48421 | Marathon Township, 4575 Pine Street, Columbiaville, MI 48421 | May 5, 2016 | 260609
Lapeer (FEMA Docket No.: B-1609) | Township of Oregon (15-05-4470P) | Mr. Eldon R. Card, Supervisor, Township of Oregon, 2525 Marathon Road, Lapeer, MI 48446 | Oregon Township Hall, 2525 Marathon Road, Lapeer, MI 48446 | May 5, 2016 | 261436
Lapeer (FEMA Docket No.: B-1609) | Village of Columbiaville (15-05-4470P) | Mr. Tom Wood, President, Village of Columbiaville, 4605 Pine Street, Columbiaville, MI 48421 | Columbiaville Village Offices, 4605 Pine Street, Columbiaville, MI 48421 | May 5, 2016 | 260433
Minnesota: Kandiyohi (FEMA Docket No.: B-1609) | Unincorporated Areas of Kandiyohi County (15-05-8056P) | The Honorable Jim Butterfield, Chairman, Kandiyohi County Board of Commissioners, 400 Benson Avenue Southwest, Willmar, MN 56201 | H&H Services Building, 2200 23rd Street Northeast, Suite 2000, Willmar, MN 56201 | Mar. 10, 2016 | 270629
Missouri: Independent (FEMA Docket No.: B-1609) | City of St. Louis (15-07-1507P) | The Honorable Francis D. Slay, Mayor, City of St. Louis, 1200 Market Street, Room 200, St. Louis, MO 63103 | City Hall, 1200 Market Street, Room 400, St. Louis, MO 63103 | Mar. 16, 2016 | 290385
New York:
Monroe (FEMA Docket No.: B-1609) | City of Rochester (15-02-1699P). | The Honorable Lovely A. Warren, Mayor, City of Rochester, City Hall, 30 Church Street, Rochester, NY 14614 | City Hall, 30 Church Street, Rochester, NY 14614 | Jun. 16, 2016 | 360431
Westchester (FEMA Docket No.: B-1609) | City of Yonkers (15-02-1693P) | The Honorable Mike A. Spano, Mayor, City of Yonkers, City Hall Building, 40 South Broadway, Yonkers, NY 10701 | City Engineer, 40 South Broadway, Yonkers, NY 10701 | Jun. 16, 2016 | 360936
Ohio: Cuyahoga (FEMA Docket No.: B-1609) | Village of Bratenahl (15-05-6419P) | The Honorable John M. Licastro, Mayor, Village of Bratenahl, 411 Bratenahl Road, Bratenahl, OH 44108 | Village Hall, 411 Bratenahl Road, Bratenahl, OH 44108 | May 4, 2016 | 390734
Oregon:
Clackamas (FEMA Docket No.: B-1609) | Unincorporated Areas of Clackamas County (15-10-1671P) | Mr. Don Krupp, County Administrator, Clackamas County, 2051 Kaen Road, Oregon City, OR 97045 | Sunnybrook Service Center, Planning Division, 9101 Southeast Sunnybrook Boulevard, Clackamas, OR 97015 | May 5, 2016 | 415588
Lake (FEMA Docket No.: B-1609) | Unincorporated Areas of Lake County (15-10-1142P) | The Honorable Dan Shoun, Commissioner, Lake County, 513 Center Street, Lakeview, OR 97630 | Lake County Courthouse, 513 Center Street, Lakeview, OR 97630 | May 5, 2016 | 410115
Marion (FEMA Docket No.: B-1609) | Unincorporated Areas of Marion County (15-10-1588P) | Mr. Sam Brentano, Commissioner, Marion County, P.O. Box 14500, Salem, OR 97309 | Department of Planning, 3150 Lancaster Drive Northeast, Salem, OR 97305 | May 26, 2016 | 410154
Multnomah (FEMA Docket No.: B-1609) | City of Portland (15-10-1671P) | The Honorable Charlie Hales, Mayor, City of Portland, 1221 Southwest 4th Avenue, Suite 340, Portland, OR 97204 | Bureau of Environmental Services, 1221 Southwest 4th Avenue, Room 230, Portland, OR 97204 | May 5, 2016 | 410183
Polk (FEMA Docket No.: B-1609) | City of Independence (15-10-1588P). | The Honorable John McArdle, Mayor, City of Independence, 240 Monmouth Street, Independence, OR 97351 | City Hall, 240 Monmouth Street, Independence, OR 97351 | May 26, 2016 | 410189
Umatilla (FEMA Docket No.: B-1609) | City of Pendleton (15-10-0669P) | The Honorable Phillip Houk, Mayor, City of Pendleton, City Hall, 500 Southwest Dorion Avenue, Pendleton, OR 97801 | Planning and Building Department, 500 Southwest Dorion Avenue, Pendleton, OR 97801 | Jun. 3, 2016 | 410211
Umatilla (FEMA Docket No.: B-1609) | Unincorporated Areas of Umatilla County (15-10-0669P) | The Honorable George Murdock, Board Chair, Umatilla County, Umatilla County Courthouse, 216 Southeast 4th Street, Pendleton, OR 97801 | Umatilla County Courthouse, Planning Department, 216 Southeast 4th Street, Pendleton, OR 97801 | Jun. 3, 2016 | 410204
Texas:
Dallas (FEMA Docket No.: B-1609) | City of Grand Prairie (15-06-1228P) | The Honorable Ron Jensen, Mayor, City of Grand Prairie, 317 West College Street, Grand Prairie, TX 75050 | City Development Center, 206 West Church Street, Grand Prairie, TX 75050 | Mar. 25, 2016 | 485472
Dallas (FEMA Docket No.: B-1609) | City of Irving (15-06-1228P) | The Honorable Beth Van Duyne, Mayor, City of Irving, 825 West Irving Boulevard, Irving, TX 75060 | City Hall, 825 West Irving Boulevard, Irving, TX 75060 | Mar. 25, 2016 | 480180
Washington: King (FEMA Docket No.: B-1609) | City of Redmond (16-10-0139P) | The Honorable John Marchione, Mayor, City of Redmond, Redmond, WA 98073 | City Hall, 15670 Northeast 85th Street, Redmond, WA 98052 | May 25, 2016 | 530087
Wisconsin: Washington (FEMA Docket No.: B-1609) | Unincorporated Areas of Washington County (16-05-1498P) | Mr. Herbert J. Tennies, Chairperson, Washington County, Board of Supervisors, 432 East Washington Street, Suite 3029, West Bend, WI 53095 | Washington County Government Center, 432 East Washington Street, West Bend, WI 53095 | Jun. 2, 2016 | 550471

[FR Doc. 2016-28563 Filed 11-25-16; 8:45 am]

BILLING CODE 9110-12-P